DEPARTMENT OF THE INTERIOR

Bureau of Land Management

[LLNMF00000 L13110000.XH0000]

Notice of Public Meeting, Farmington District Resource Advisory Council Meeting, New Mexico

AGENCY: Bureau of Land Management, Interior.

ACTION: Notice of public meeting.

SUMMARY: In accordance with the Federal Land Policy and Management Act and the Federal Advisory Committee Act, the Bureau of Land Management's (BLM) Farmington District Resource Advisory Council (RAC) will meet as indicated below.

DATES: The RAC will meet on November 13 and 14, 2013, at the Farmington District Office, 6251 College Blvd., Suite A, Farmington, NM 87401, from 9 a.m.-4 p.m. The public may send written comments to the RAC at the BLM Farmington District Office, 6251 College Blvd., Suite A, Farmington, NM 87401.

FOR FURTHER INFORMATION CONTACT: Christine Horton, BLM Farmington District Office, 6251 College Blvd., Suite A, Farmington, NM 87401, 505-564-7633. Persons who use a telecommunications device for the deaf (TDD) may call the Federal Information Relay Service (FIRS) at 1-800-877-8229 to contact the above individual during normal business hours. The FIRS is available 24 hours a day, 7 days a week, to leave a message or question with the above individual. You will receive a reply during normal business hours.

SUPPLEMENTARY INFORMATION: The 10-member Farmington District RAC advises the Secretary of the Interior, through the BLM, on a variety of planning and management issues associated with public land management in the BLM's Farmington District. Planned agenda items include: Opening remarks from the BLM Farmington District Manager; updates on ongoing planning efforts; Chaco Canyon leasing; the Mancos/Gallup Shale Resource Management Plan Amendment; the Visual Resource Management Plan Amendment for the Glade Run Recreation Area; wild horse gathers for the Farmington District; the Tri-State Transmission Valley Corridor Proposal; the Cebolla Oil and Gas Lease Environmental Assessment; and Taos Field Office planning updates (including Río Grande del Norte National Monument, the El Palacio/Sombrillo Travel Management Plan, and the Sabinoso Wilderness).

On Thursday, November 14, 2013, at 3 p.m., members of the public will have the opportunity to make comments to the RAC, during a half-hour public comment period. All RAC meetings are open to the public. Persons wishing to make comments during the public comment period should register in person with the BLM by 2 p.m. on November 14, 2013, at the meeting location. Depending on the number of commenters, the length of comments may be limited; this time may vary. The BLM appreciates any and all comments.

Michael H. Tupper,
Deputy State Director, Lands and Resources.

[FR Doc. 2013-25150 Filed 10-24-13; 8:45 am]

BILLING CODE 4310-FB-P